DEPARTMENT OF TRANSPORTATION

Federal Railroad Administration

[Docket Number FRA-2007-28952]

Petition for Extension of Waiver of Compliance

Under part 211 of title 49 Code of Federal Regulations (CFR), this document provides the public notice that on July 29, 2022, Union Pacific Railroad Company (UP) petitioned the Federal Railroad Administration (FRA) for an extension of a waiver of compliance from certain provisions of the Federal railroad safety regulations contained at 49 CFR parts 215 (Railroad Freight Car Safety Standards) and 232 (Brake System Safety Standards for Freight and Other Non-passenger Trains and Equipment; End of Train Devices). The relevant FRA Docket Number is FRA-2007-28952.

Specifically, UP requests a waiver extension from 49 CFR 232.205, Class 1 brake test—initial terminal inspection, and certain provisions of part 215 related to the inspection of trains entering the United States from Mexico at Eagle Pass, Texas. UP seeks to continue to move trains received in interchange with Ferrocarriles Nacionales de Mexico (FXE) approximately 4.8 miles north of Eagle Pass, Texas, to the facility at Clarks Park, Texas, before an initial terminal air brake test is performed. UP stated in its 2007 petition ¹ that the relief would “expedite train movements and avoid blockages of crossings in Eagle Pass.” UP asserts that it has “been operating under the requirements set forth in the waiver for the past fourteen years and no adverse effect on the safety of operations has occurred.”

¹ https://www.regulations.gov/document/FRA-2007-28952-0001.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications are requested by December 27, 2022. Comments received after that date will be considered if practicable. FRA reserves the right to extend the existing relief subject to subsequent consideration of any comments submitted to the docket.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
Carolyn Hayward-Williams,
Director, Office of Railroad Systems and Technology.

[FR Doc. 2022-23422 Filed 10-26-22; 8:45 am]

BILLING CODE 4910-06-P